DEPARTMENT OF COMMERCE

International Trade Administration

[A-570-828, A-823-805]

Silicomanganese From the People's Republic of China and Ukraine: Final Results of the Expedited Fifth Sunset Reviews of the Antidumping Duty Orders

AGENCY: Enforcement and Compliance, International Trade Administration, Department Commerce.

SUMMARY: As a result of these expedited sunset reviews, the U.S. Department of Commerce (Commerce) finds that revocation of the antidumping duty orders on silicomanganese from the People's Republic of China (China) and Ukraine would be likely to lead to continuation or recurrence of dumping at the levels indicated in the “Final Results of Expedited Sunset Reviews” section of this notice.

DATES: Applicable March 7, 2024.

FOR FURTHER INFORMATION CONTACT: Aleksandras Nakutis, AD/AD Operations, Office I, Enforcement and Compliance, International Trade Administration, U.S. Department of Commerce, 1401 Constitution Avenue NW, Washington, DC 20230; telephone: (202) 482-3147.

SUPPLEMENTARY INFORMATION:

Background

On November 1, 2023, Commerce published in the Federal Register the initiation of the fifth sunset reviews of antidumping duty orders on silicomanganese from China and Ukraine pursuant to section 751(c) of the Tariff Act of 1930, as amended (the Act).¹

¹ See Initiation of Five-Year (Sunset) Reviews, 88 FR 74978 (November 1, 2023); see also Silicomanganese from the People's Republic of China (PRC): Antidumping Duty Order, 59 FR 66003 (December 22, 1994); and Suspension Agreement on Silicomanganese from Ukraine; Termination of Suspension Agreement and Notice of Antidumping Duty Order, 66 FR 43838 (August 21, 2001) (collectively, Orders).

On November 15, 2023, we received a timely notice of intent to participate in these sunset reviews from Eramet Marietta, Inc. (Eramet), a domestic interested party, pursuant to 19 CFR 351.218(d)(1)(i).² Eramet claimed interested party status under section 771(9)(C) of the Act as a manufacturer of a domestic like product in the United States. On November 30, 2023, Eramet provided complete substantive responses for these reviews within the 30-day deadline specified in 19 CFR 351.2218(d)(3)(i).³ Commerce did not receive substantive responses from any respondent parties, and no party requested a hearing.

² See Eramet's Letters, “Notice of Intent to Participate,” dated November 15, 2023.

³ See Eramet's Letters, “Substantive Response,” dated November 30, 2023.

On December 21, 2023, Commerce notified the U.S. International Trade Commission that it did not receive an adequate substantive response from other interested parties.⁴ As a result, in accordance with section 751(c)(3)(B) of the Act and 19 CFR 351.218(e)(1)(ii)(C)(2), Commerce conducted expedited, i.e., 120-day, sunset reviews of the Orders.

⁴ See Commerce's Letter, “Sunset Reviews for November 2023,” dated December 21, 2023.

Scope of the Orders

The product covered by the Orders is silicomanganese. For a full description of the scope of the Orders, see the Issues and Decision Memorandum.⁵

⁵ See Memorandum, “Issues and Decision Memorandum for the Final Results of the Expedited Fifth Sunset Reviews of the Antidumping Duty Orders on Silicomanganese from the People's Republic of China and Ukraine,” dated concurrently with, and hereby adopted by, this notice (Issues and Decision Memorandum).

Analysis of the Comments Received

All issues raised in these sunset reviews are addressed in the Issues and Decision Memorandum. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c)(1) and 752(c)(1) and (3) of the Act, Commerce determines that revocation of the Orders would be likely to lead to continuation or recurrence of dumping and that the magnitude of the margins of dumping likely to prevail would be margins up to 150.00 percent for China and 163.00 percent for Ukraine.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results in accordance with sections 751(c), 752(c), and 777(i)(1) of the Act, and 19 CFR 351.218.

Dated: February 29, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Expedited Sunset Reviews

VIII. Recommendation

[FR Doc. 2024-04823 Filed 3-6-24; 8:45 am]

BILLING CODE 3510-DS-P